DEPARTMENT OF ENERGY

Federal Energy Regulatory Commission

Notice of Effectiveness of Exempt Wholesale Generator or Foreigen Utility Company Status

March 13, 2007.

| Docket No.
High Prairie Wind Farm II, LLC | EG07-19-000
Wayzata California Power Holding, LLC | EG07-20-000
Cedar Creek Wind Energy, LLC | EG07-21-000
Dogwood Energy LLC | EG07-22-000
Reliant Energy Ormond Beach, Inc. | EG07-23-000
Camp Grove Wind Farm LLC | EG07-24-000
Fenton Power Partners I, LLC | EG07-25-000
Buena Vista Energy, LLC | EG07-26-000
Nuovo Pignone s.p.a. | FC07-6-000

Take notice that during the month of February 2007, the status of the above-captioned entities as Exempt Wholesale Generators or Foreign Utility Companies became effective by operation of the Commission's regulations. 18 CFR 366.7(a).

Philis J. Posey,
Acting Secretary.

[FR Doc. E7-4986 Filed 3-16-07; 8:45 am]

BILLING CODE 6717-01-P